DEPARTMENT OF COMMERCE

International Trade Administration

[A-583-830]

Stainless Steel Plate in Coils From Taiwan: Extension of Time Limit for the Final Results of the Antidumping Duty Administrative Review

AGENCY: Import Administration, International Trade Administration, Department of Commerce.

ACTION: Notice of extension of time limit for the final results of antidumping duty administrative review.

EFFECTIVE DATE: September 19, 2003.

FOR FURTHER INFORMATION CONTACT: Catherine Bertrand, AD/CVD Enforcement, Group III, Office 9, Import Administration, International Trade Administration, U.S. Department of Commerce, 14th Street and Constitution Avenue, NW., Washington DC 20230; telephone: (202) 482-3207.

Background

On June 4, 2003, the Department of Commerce (“the Department”) published the preliminary rescission of the administrative review of the antidumping duty order on stainless steel plate in coils from Taiwan. See Preliminary Rescission of Antidumping Duty Administrative Review: Stainless Steel Plate in Coils from Taiwan, 68 FR 33472 (June 4, 2003). The final results of this administrative review are currently due no later than October 2, 2003.

Extension of Time Limit for Preliminary Results

Due to the complexity of issues present in this administrative review, such as complicated affiliation issues and middleman dumping allegations, the Department has determined that it is not practicable to complete this review within the original time period provided in section 751(a)(3)(A) of the Tariff Act of 1930, as amended, and section 351.213(h)(2) of the Department's regulations. Given the complexity of these issues and the large amount of information collected during the review, the Department needs additional time to review the record of this proceeding and make a determination. Therefore, we are extending the due date for the final results by 30 days, until no later than November 1, 2003.

Dated: September 15, 2003.
Joseph A. Spetrini,
Deputy Assistant Secretary for Import Administration, Group III.

[FR Doc. 03-23964 Filed 9-18-03; 8:45 am]

BILLING CODE 3510-DS-P